DEPARTMENT OF COMMERCE

International Trade Administration

[Application No. 92-9A001]

Export Trade Certificate of Review

ACTION: Notice of Application (#92-9A001) to amend an export trade certificate of review previously issued to Aerospace Industries Association of America, Inc.

SUMMARY: The Office of Competition and Economic Analysis, International Trade Administration, U.S. Department of Commerce, has received an application to amend an Export Trade Certificate of Review (“Certificate”). This notice summarizes the proposed amendment and requests comments relevant to whether the Certificate should be issued.

FOR FURTHER INFORMATION CONTACT: Joseph Flynn, Director, Office of Competition and Economic Analysis, International Trade Administration, (202) 482-5131 (this is not a toll-free number) or by e-mail at oetca@trade.gov.

SUPPLEMENTARY INFORMATION: Title III of the Export Trading Company Act of 1982 (15 U.S.C. 4001-21) authorizes the Secretary of Commerce to issue Export Trade Certificates of Review. An Export Trade Certificate of Review protects the holder and the members identified in the Certificate from State and Federal government antitrust actions and from private treble damage antitrust actions for the export conduct specified in the Certificate and carried out in compliance with its terms and conditions. Section 302(b)(1) of the Export Trading Company Act of 1982 and 15 CFR 325.6(a) requires the Secretary to publish a notice in the Federal Register identifying the applicant and summarizing its proposed export conduct.

Request for Public Comments

Interested parties may submit written comments relevant to the determination whether an amended Certificate should be issued. If the comments include any privileged or confidential business information, it must be clearly marked and a nonconfidential version of the comments (identified as such) should be included. Any comments not marked privileged or confidential business information will be deemed to be nonconfidential. An original and five (5) copies, plus two (2) copies of the nonconfidential version should be submitted no later than 20 days after the date of this notice to: Office of Competition and Economic Analysis, International Trade Administration, U.S. Department of Commerce, Room 7021X, Washington, DC 20230, or transmitted by E-mail at oetca@trade.gov. Information submitted by any person is exempt from disclosure under the Freedom of Information Act (5 U.S.C. 552). However, nonconfidential versions of the comments will be made available to the applicant if necessary for determining whether or not to issue the Certificate. Comments should refer to this application as “Export Trade Certificate of Review, application number 92- 9A001.”

The original Certificate for Aerospace Industries Association of America, Inc. was issued on April 10, 1992 (57 FR 13707, April 17, 1992) and last amended on July 7, 2009 (74 FR 138, 2009). A summary of the application for an amendment follows.

Summary of the Application

Applicant: Aerospace Industries Association of America, Inc. (“AIA”), 1000 Wilson Boulevard, Suite 1700, Arlington, Virginia 22209. Contact: Matthew F. Hall, Counsel, Telephone: (202) 862-9700. Application No.: 92- 9A001. Date Deemed Submitted: August 31, 2010. Proposed Amendment: AIA seeks to amend its Certificate to:

1. Add the following companies as new Members of the Certificate within the meaning of section 325.2(1) of the Regulations (15 CFR 325.(1)):

Acutec Precision Manufacturing, Inc., Saegertown, PA; Airdat LLC, Morrisville, NC; Alcoa Defense, Crystal City, VA; Alliant Techsystems, Inc. (ATK), Minneapolis, MN; ANSYS, Inc., Canonsburg, PA; ArmorWorks Enterprises, LLC, Chandler, AZ; Bombardier, Montreal, Canada; Broad Reach Engineering Company, Golden, CO; Celestica Corporation, Toronto, Canada; Deloitte Consulting LLP, New York, NY; Guardsmark, LLC, New York, NY; Integral Systems, Inc., Columbia, MD; Jabil Defense & Aerospace Services LLC. St. Petersburg, FL; KPMG LLP, New York, NY; M7 Aerospace L.P., San Antonio, TX; Microsemi Corporation, Irvine, CA; OSI Systems, Inc., Hawthorne, CA; Pacifica Engineering, Inc., Mukiliteo, WA; Paragon Space Development Corporation, Tucson, AZ; Plexus Corporation, Neenah, WI; PWC Aerospace & Defense Advisory Services, McLean, VA; SAP Public Services, Inc., Washington, DC; SRA International, Inc., Fairfax, VA; Tech Manufacturing, LLC, Wright City, MO; Therm, Incorporated, Ithaca, NY; TIMCO Aviation Services, Inc., Greensboro, NC; Triumph Group Inc., Wayne, PA; UFC Aerospace, Bay Shore, NY; Vermont Composites, Inc., Bennington, VT; Xerox Corporation, Norwalk, CT.

2. Make the following changes in name or address of existing Members: Accenture is now located in Chicago, IL, with controlling entity Accenture plc, Dublin, Ireland; AAR Manufacturing, Inc., Wood Dale, IL, is a Member in place of its controlling entity, AAR Corp., Wood Dale, IL; Barnes Group Inc, Bristol, CT, has replaced its subsidiary Barnes Aerospace, Windsor, CT, as the Member; Chromalloy Power Services Corporation, San Antonio, TX, has changed its name to Chromalloy (at the same location). The controlling entity remains the Carlyle Group, Washington, DC; Computer Sciences Corporation (CSC) moved from El Segundo, CA, to Falls Church, VA; Ducommon Incorporated moved from Long Beach, CA, to Carson, CA. Elbit Systems of America, LLC, Fort Worth, TX, the controlling entity of EFW Inc., Fort Worth, TX, has replaced EFW, Inc., as Member. The controlling entity of Elbit Systems of America, LLC, is Elbit Systems, Ltd., of Haifa, Israel. Electronic Data Systems Corporation, Plano, TX, has changed its name to HP Enterprise Services—Aerospace, Palo Alto, CA; General Electric Aviation, Cincinnati, OH, has replaced its controlling entity, General Electric Company, Fairfield, CT, as Member; Microsat Systems, Inc., Littleton, CO, has changed its name to Sierra Nevada Corporation, Space Systems, Littleton, CO; RTI International Materials Inc., has moved from Niles, OH, to Pittsburgh, PA; Science Applications International Corporation has moved from San Diego, CA, to McLean, VA; Sparton Corporation, Jackson, MI, has moved from San Diego, CA, to McLean, VA; Vought Aircraft Industries, Inc., Dallas, TX, has changed its name to Triumph Aerostructures—Vought Aircraft Division. The controlling entity is Triumph Group, Inc., Wayne, PA.

Dated: September 7, 2010.
Joseph E. Flynn,
Director, Office of Competition and Economic Analysis.

[FR Doc. 2010-22696 Filed 9-13-10; 8:45 am]

BILLING CODE 3510-DR-P